DEPARTMENT OF LABOR

Employment and Training Administration

[TA-W-40,419]

Flextronics International, Porstmouth, NH; Notice of Negative Determination Regarding Application for Reconsideration

By application received on May 1, 2002, the petitioners requested administrative reconsideration of the Department's negative determination regarding eligibility for workers and former workers of the subject firm to apply for Trade Adjustment Assistance (TAA). The denial notice applicable to workers of Flextronics International, Portsmouth, New Hampshire was issued on April 2, 2002, and was published in the Federal Register on April 17, 2002 (67 FR 18923).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The investigation findings revealed that criterion (2) of the group eligibility requirements of section 222 of the Trade Act of 1974 was not met. Plant sales and production of networking products PCBA and chassis assemblies increased from 2000 to 2001.

The request for reconsideration alleges that sales and production at the subject plant declined during the latter part of 2001. The petitioner attached various news articles to attempt to illustrate declines in sales and production during the relevant period.

The company reported increased sales and production at the subject plant in 2001 over the corresponding 2000 period. Further review of the initial investigation shows that the preponderance in the declines in employment at Flextronics International, Portsmouth, New Hampshire is the direct result of plant production being shifted to a foreign source during the latter part of 2001 and those products are not being imported back to the United States during the relevant period. Thus on further analysis criterion (3) group eligibility requirements of section 222 of the Trade Act of 1974 also was not met. Imports did not contribute importantly to the subject plant layoffs.

The petitioner further states that the company turned down work because of it being too labor intensive, the company is restructuring their operations in the United States, Western Europe and Asia and that production will be moved to lower-cost regions such as Mexico. None of these factors are a basis for certifying the worker group at Flextronics International, Portsmouth, New Hampshire.

Conclusion

After review of the application and investigative findings, I conclude that there has been no error or misinterpretation of the law or of the facts which would justify reconsideration of the Department of Labor's prior decision. Accordingly, the application is denied.

Signed at Washington, DC, this 31st day of May, 2002.
Edward A. Tomchick,
Director, Division of Trade Adjustment Assistance.

[FR Doc. 02-14786 Filed 6-11-02; 8:45 am]

BILLING CODE 4510-30-P